DEPARTMENT OF JUSTICE

Antitrust Division

Notice Pursuant to the National Cooperative Research and Production Act of 1993—Training & Readiness Accelerator II

Notice is hereby given that, on February 7, 2025, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances.

Specifically, Oasis Advanced Engineering, Inc., Lake Orion, MI; SRR International, Inc., Riviera Beach, FL; Fairmount Automation, Inc., West Conshohocken, PA; Fireline Science LLC, Tempe, AZ; Sigma Defense Systems LLC, Perry, GA; The Entwistle Company LLC, Hudson, MA; HII-Ingalls Shipbuilding, Inc., Pascagoula, MS; D'Angelo Technologies, LLC, Beavercreek, OH; Gambit Defense, Inc., Valley Village, CA; Teledyne Brown Engineering, Inc., Huntsville, AL; GROWTECH INDUSTRIES LLC, Buffalo, NY; Coherent Technical Services, Inc., Hollywood, MD; Haigh-Farr, Inc., Bedford, NH; True Bear Engineering LLC, Iron Mountain, MI; Learn To Win, Inc., Redwood City, CA; L3Harris Technologies, Inc. Integrated Systems L.P., Greenville, TX; Walaris LLC, Peachtree Corners, GA; AEVEX Aerospace LLC, Solana Beach, CA; Applied Research in Acoustics LLC, Madison, VA; Creative Digital Systems Integration, Inc., Simi Valley, CA; Weather Gage Technologies LLC, Annapolis, MD; New Mexico State University, Las Cruces, NM; COLSA Corp., Huntsville, AL; Cenith Innovations LLC, Sacramento, CA; Brigham Young University, Provo, UT; Pliant Energy Systems, Inc., Brooklyn, NY; AForge LLC, Lorton, VA; Eoptic, Inc., Rochester, NY; Fuse Federal Enterprise LLC, San Leandro, CA; Endictus Corp., Tampa, FL; Ansys Government Initiatives, Inc., Exton, PA; Nano Nuclear Energy Inc., New York, NY; OmniSync, Inc., San Diego, CA; Silicon Technologies, Inc., Midvale, UT; The University of Alabama in Huntsville, Huntsville, AL; Intrinsic Enterprises, Inc., Bellevue, WA; Pelican Defense Technologies, Farmerville, LA; Nominal, Inc., Austin, TX., have been added as parties to this venture.

Also, Exyn Technologies, Inc., Philadelphia, PA; Waltonen Engineering, Inc., Warren, MI; The Informatics Applications Group, Inc., Reston, VA; Subsystem Technologies, Inc., Arlington, VA; BUNDLAR LLC, Chicago, IL; Tangram Flex, Inc., Dayton, OH; Luna Labs USA LLC, Charlottesville, VA; University of Arizona Applied Research Corp., Tucson, AZ; ActioNet, Inc., Vienna, VA; Chip Design Systems, Hockessin, DE; VAE, Inc., Springfield, VA; ObjectSecurity LLC, San Diego, CA; Solid State Scientific Corp, Hollis, NH; ExoAnalytic Solutions, Inc., Foothill Ranch, CA; Vicforms LLC, Frackville, PA; Huckworthy LLC, Cape Charles, VA; Metronome LLC, Fairfax, VA; RoGO Fire LLC dba RoGO Communications, Westminster, CO; 910 FACTOR, Inc., Gastonia, NC; Raven Defense Corp., Albuquerque, NM; Neya Systems, Warrendale, PA; Kinetics, Inc., Cook, WA; Thales Defense & Security, Inc., Clarksburg, MD; DTCUBED LLC, Sewell, NJ; Venus Aerospace, Houston, TX; Pliant Energy Systems, Inc., Brooklyn, NY; Design West Technologies, Inc., Tustin, CA; Bell Textron, Inc., Fort Worth, TX; InterSystems Corp., Cambridge, MA; Acutronic USA, Inc., Pittsburgh, PA; Logistic Services International, Inc., Jacksonville, FL; 4C North America, Inc., McLean, VA; Iron EagleX, Inc., Tampa, FL; TLC Solutions, Inc., St. Augustine, FL; Rocket Technology, Richmond, VA; Technology, Modeling & Simulation & Training Consultants LLC, Geneva, FL., have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on September 4, 2024. A notice was published in the Federal Register pursuant to section 6(b) of the Act on October 11, 2024 (89 FR 82627).

Suzanne Morris,
Deputy Director Civil Enforcement Operations, Antitrust Division.

[FR Doc. 2025-03654 Filed 3-6-25; 8:45 am]

BILLING CODE P